DEPARTMENT OF JUSTICE

Office of Justice Programs

[OMB Number 1121-New]

Agency Information Collection Activities: Proposed Collection; Comments Requested

ACTION: 30-day notice of new information collection: Survey of State Court Criminal Appeals, 2010.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register Volume 76, Number 20, pages 5401-5402, on January 31, 2011, allowing for a 60-day public comment period.

The purpose of this notice is to allow an additional 30 days for public comment until May 4, 2011. This process is conducted in accordance with 5 CFR 1320.10.

Written comments and/or suggestions regarding the items contained in this notice, especially the estimated public burden and associated response time, should be directed to the Office of Management and Budget, Office of Information and Regulatory Affairs, Attention Department of Justice Desk Officer. The best way to ensure your comments are received is to e-mail them to oira_submission@omb.eop.goiv or fax them to (202) 395-7285. All comments should reference the 8 digit OMB number for the collection or the title of the collection. If you have questions concerning the collection, please call Thomas H. Cohen at (202) 514-8344 or the DOJ Desk Officer at (202) 395-3176.

Written comments and suggestions from the pubic and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: New data collection, Survey of State Court Criminal Appeals (SSCCA), 2010.

(2) The title of the form/collection: Survey of State Court Criminal Appeals or SSCCA, 2010

(3) The agency form number, if any, and the applicable component of the Department sponsoring the collection: The form labels are SSCCA—IAC and SSCCA—COLR, Bureau of Justice Statistics, Office of Justice Programs, United States Department of Justice.

(4) Affected Public Who Will be Asked or Required to Respond, as well as a Brief Abstract: State intermediate appellate courts and state courts of last resort. Abstract: The 2010 SSCCA will focus on criminal cases disposed in a national sample of state intermediate appellate courts and courts of last resort and will aim to obtain information on certain key case characteristics of these appeals. Some of the information collected will include the types of criminal cases appealed to state intermediate appellate courts and courts of last resort, the legal issues raised on appeal, the impact of the appellate process on trial court outcomes, the extent that appellate claims are decided on the merits, and case processing time for criminal appeals. The 2010 SSCCA will also attempt to examine all death penalty cases decided on appeal in 2010 as well as cases that were adjudicated in both intermediate appellate courts and courts of last resort. All data collected will be accurate as of December 2010.

(5) An Estimate of the Total Number of Respondents and the Amount of Time Estimated for an Average Respondent to Respond: The Survey of State Court Criminal Appeals (SSCCA) will collect data on a national sample of approximately 5,000 criminal appeals concluded in all of the nation's 143 intermediate appellate courts and courts of last resort in 2010. The burden hour computation involves both sample list generation and case level data collection. Each of the nation's 143 intermediate appellate courts and courts of last resort will be asked to generate a sample of all their direct criminal appeals disposed in 2010 from which a national sample can be drawn for the SSCCA. It is estimated that it should take 3 hours for each of the nation's 143 appellate courts to generate an appropriate sample list. The burden hour component regarding case level data collection involves copying the necessary appellate court documentation from three major sources for submission to the data collection agent including (1) the submitted legal briefs, (2) the opinions produced by the courts, and (3) the docketing information. Assuming 35 appeals per court (5,000 appeals/143 courts = 35 appeals) and 10 minutes to copy each legal brief or opinion, the burden hours to copy these paper documents for each court should be about 6 hours for the legal briefs and 6 hours for the opinions (35 appeals * .17 hours per opinion/brief = 6 hours). In addition to providing copies of legal briefs and opinions, it is estimated that each appellate court will require 3 hours to provide the necessary docketing information.

(6) An Estimate of the Total Public Burden (in hours) Associated with the collection: The estimated public burden associated with this collection is 1,224 hours. The burden hour computation is calculated by identifying those appellate courts that have limited online accessibility necessitating the submission of legal briefs, docketing materials, or court opinions for coding by the data collection agent. No burden hours are associated with collecting data from appellate courts with complete internet accessibility because all data can be obtained online. It is estimated that a total of 795 hours will be needed for the appellate courts with limited internet accessibility to provide the documentation in the form of mailed legal briefs/opinions or docket extracts to complete the SSCCA data collection. The 795 number is calculated by first computing the total burden hours appellate courts need to provide copies of submitted legal briefs (90 courts * 6 hours per court to provide copies of submitted legal briefs = 540 hours); and secondly, by computing the total burden hours for providing data extracts of docketing information (57 courts * 3 hours per court to provide extracts of docketing information = 171 hours); and thirdly, by computing the total burden hours for providing copies of court opinions (14 courts * 6 hours per court to provide copies of court opinions = 84 hours). Hence, 540 hours for providing copies of submitted briefs + 171 hours for providing data extracts of docketing information + 84 hours for providing copies of court opinions = 795 hours. When the burden hours for sample list generation are added, the total burden hours for the SSCCA project sums to 1,224 hours (795 hours to provide necessary case documentation + 429 hours for sample list generation = 1,224 hours).

If additional information is required contact: Lynn Murray, Department Clearance Officer, United States Department of Justice, Justice Management Division, Policy and Planning Staff, Two Constitution Square, 145 N Street, NE., Suite 2E-808, Washington, DC 20530.

Dated: March 30, 2011.
Lynn Murray,
Department Clearance Officer, PRA, United States Department of Justice.

[FR Doc. 2011-7915 Filed 4-1-11; 8:45 am]

BILLING CODE 4410-18-P